ENVIRONMENTAL PROTECTION AGENCY

[ER-FRL-6609-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 14, 2000 (65 FR 20157).

Draft EISs

ERP No. D-FHW-D40307-VA Rating EC2, Coalfields Expressway Location Study, Improvements from Route 23 near Pound, VA to the WV State Line east of Slate, VA, Funding and COE Section 404 Permit, Wise, Dickerson and Buchanan, VA.

Summary: EPA expressed concerns about the direct impact to forests, streams and wetlands. EPA recommends that VDOT and FHWA consider flexibility in the design standards of this road to allow for contact sensitive design and that the right-of-way limits and clearing be kept to a minimum.

ERP No. D-RUS-E39053-KY Rating EC2, Jackson County Lake Project, Implementation, To Provide Adequate Water Supplies for the Projected Residential, Commercial and Industrial Needs, Funding and Possible COE Section 10 and 404 Permits, Jackson County, KY.

Summary: EPA expressed environmental concerns due to long-term water quality implications of the proposal and request additional information regarding project purposed/need.

ERP No. DS-FTA-C40046-NY Rating LO, Buffalo Inner Harbor Development Project, Waterfront Redevelopment, Funding and COE Section 10 and 404 Permit Issuance, New Information in Response to a Court Order concerning Historic Preservation, Eric County, NY.

Summary: EPA has no objection to implementation of the proposed project.

FINAL EISs

ERP No. F-BLM-K67049-CA Soledad Canyon Sand and Gravel Mining Project, Proposal to Mine, Produce and Sell, “Split Estate” Private Owned and Federally Owned Lands, Transit Mixed Concrete, Los Angeles County, CA.

Summary: EPA concurred with BLM's conformity determination and is satisfied that air quality standards will be protected. EPA expressed continuing concerns that a jurisdictional analysis has not yet been conducted for waters of the U. S., and potential impacts and appropriate mitigation measures remain uncertain.

ERP No. F-DOE-A08031-00 Transmission System Vegetation Management Program, Implementation, Managing Vegetation, Site Specific, Right-of-Way Grant, CA, ID, MT, OR, UT, WA and WY.

Summary: EPA expressed lack of objections with the proposed action.

ERP No. F-DOE-E09806-TN Treating Transuranic (TRU)/Alpha Low-Level Waste at the Oak Ridge National Laboratory, Construct, Operate, and Decontaminate/Decommission of Waste Treatment Facility, Oak Ridge, TN.

Summary: EPA continues to have environmental concerns about potential process releases and project impacts, due to the magnitude and scope of the project.

ERP No. F-FHW-C40147-NY Stewart Airport Access Transportation Improvement Project, A New Interchange on I-84 at Drury Lane, Reconstruction of Drury Lane and a new East-West Connector Road from Drury Lane to Stewart International Airport, Funding, Towns of Montgomery, Newburgh and New Windsor, Orange County, NY.

Summary: While EPA has no objection to the proposed action, EPA would like to review the wetlands avoidance and minimization measures prior to the release of the ROD. EPA also requested that the information, and the wetland mitigation/monitoring plan be included in the Department of Army Section 404 permits.

ERP No. F-FHW-E40781-FL FL-423 (John Young Parking), Improvements from FL-50 to FL-434, City of Orlando, Orange County, FL.

Summary: EPA continues to be concerned regarding the need to monitor storm water and that the entire project should have a delineated bike lane.

ERP No. F-FHW-F40386-OH Meigs-124-21.16 Transportation Corridor, Relocating existing OH-124 and US 33, Meigs County, OH.

Summary: EPA has no objection to the proposed action, since the selected alternative avoids impacts to threatened and endangered species, historic sites, Section 4(f) areas and other important resources in the area, while also minimizing adverse impacts on the area's wetlands.

ERP No. F-FHW-K40220-CA CA-125 South Route Location, Adoption and Construction, between CA-905 on Otay Mesa to CA-54 in Spring Valley, Funding and COE Section 404 Permit, San Diego County, CA.

Summary: EPA believes the FEIS remains inadequate for purposes of public disclosure under the National Environmental Policy Act. Pursuant to CEQ's NEPA implementing Regulations, EPA strongly recommended that FHWA prepare a Supplemental EIS to address several actions related to, and/or connected to, State Route 125 which would not proceed without construction of the roadway.

ERP No. F-FHW-L40201-WA US 101 Highway Aberdeen-Hoquiam Corridor Project, Improvements, US Coast Guard and COE Section 404 Permit, Grays Harbor County, WA.

Summary: No formal comment letter was sent to the lead agency.

ERP No. F-IBR-H39007-00 Republican River Basin Long-Term Water Supply Contract Renewals for Five Irrigation Districts, Frenchman-Cambridge, Frenchman Valley and Bostwick Irrigation District in Nebraska and Bostwick No.2 and Almena Irrigation Districts on Kansas, NE and KS.

Summary: No formal comment letter was sent to the preparing agency.

ERP No. FS-FHW-H40136-KS South Lawrence Trafficway Construction, Kansas Turnpike, I-70 to KS-10/Noria Road, New Information concerning KS-10 on the East and US 59 on the West, Funding, COE Section 404 Permit and Right-of-Way Acquisition, Douglas County, KS.

Summary: No formal comment letter was sent to the preparing agency.

Dated: July 25, 2000.
Ken Mittelholtz,
Environmental Protection Specialist, Office of Federal Activities.

[FR Doc. 00-19199 Filed 7-27-00; 8:45 am]

BILLING CODE 6560-50-U